DEPARTMENT OF ENERGY

Federal Energy Regulatory Commission

[Docket No. EC22-61-000]

LSP-Whitewater Limited Partnership, Wisconsin Public Service Corporation, Wisconsin Electric Power Company; Notice of Extension of Time Request

On June 9, 2022, LSP-Whitewater Limited Partnership; Wisconsin Public Service Corporation; and Wisconsin Electric Power Company (Applicants) filed a request for an extension of time to respond to the deficiency letter issued in this docket issued on May 19, 2022.¹ Applicants request an extension so that they may develop a horizontal market power analysis that may include a Delivered Price Test.

¹ LSP-Whitewater Limited Partnership, Docket No. EC22-61-000 (May 19, 2022) (deficiency letter).

Upon consideration, notice is hereby given that Applicant's request is granted, extending the deadline to respond an additional 30 days until July 18, 2022.

Dated: June 10, 2022.
Debbie-Anne A. Reese,
Deputy Secretary.

[FR Doc. 2022-12990 Filed 6-15-22; 8:45 am]

BILLING CODE 6717-01-P